DEPARTMENT OF JUSTICE

Notice of Filing of Proposed Settlement Agreements Regarding Natural Resource Damage Claims at the Western Port Angeles Harbor Site

On March 22, 2021 the Department of Justice lodged two proposed Consent Decrees with the United States District Court for the Western District of Washington in the lawsuit entitled United States, on Behalf of the National Oceanic and Atmospheric Administration and the United States Department of the Interior; State of Washington Through the Department of Ecology; Lower Elwha Klallam Tribe; Port Gamble S'Klallam Tribe; and the Jamestown S'Klallam Tribe,. v. Nippon Paper Industries USA CO., LTD, Merrill & Ring Inc., Georgia-Pacific LLC, the Port of Port Angeles, Owens Corning, and the City of Port Angeles, Civil Action No. 21-cv-5204.

The proposed Consent Decrees would resolve claims by Plaintiffs, who are State, Federal and Tribal Trustees, under Section 107 of the Comprehensive Environmental Response, Compensation and Liability Act of 1980, as amended (“CERCLA”), 42 U.S.C. 9607; Section 311 of the Clean Water Act (CWA), 33 U.S.C. 1321; and Section 1002 of the Oil Pollution Act of 1990 (OPA), 33 U.S.C. 2702; the Model Toxics Control Act (“MTCA”), Wash. Rev. Code § 70A.305.040(2); and Wash. Rev. Code § 90.48.142 for natural resource damages at the Western Port Angeles Harbor Site.

In the first Consent Decree with Nippon Paper Industries USA Co., Ltd., Merrill & Ring Inc., Georgia-Pacific LLC, Owens Corning, and the Port of Port Angeles Defendants are required to pay $8,500,000. In a separate Decree, the City of Port Angeles is required to pay $800,000. The monies are to be used by the Trustees to address damages at the Site and to reimburse Trustees for past assessment costs.

The publication of this notice opens a period for public comment on the Settlement Agreement. Comments should be addressed to the Assistant Attorney General, Environment and Natural Resources Division, and should refer to United States, et al. v. Nippon Paper Industries USA CO., LTD, et al. D.J. Ref. No. 90-11-3-10973. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Settlement Agreements may be examined and downloaded at this Justice Department website: https://www.justice.gov/enrd/consent-decrees. Alternatively, a paper copy of the Settlement Agreements will be provided upon written request and payment of reproduction costs. Please mail your request and payment to: Consent Decree Library, U.S. DOJ—ENRD, P.O. Box 7611, Washington, DC 20044-7611.

For a copy of the Consent Decree with the City, please enclose a check or money order for $8.75 (25 cents per page reproduction cost) payable to the United States Treasury. For a copy of the Consent Decree with Nippon Paper Industries USA CO., LTD, et al., enclose a check or money order for $11.50 (25 cents per page reproduction cost) payable to the United States Treasury. If you are requesting both agreements, a check or money order for $20.25 payable to the United States Treasury should be included.

Finally, please note that the Trustee agencies have released a Damage Assessment and Restoration Plan (DARP). The DARP is related to the Consent Decree but is a separate document, subject to a separate comment process. The Trustees will be holding a public meeting for more information. To learn about those Trustees and that process, please visit https://darrp.noaa.gov/hazardous-waste/western-port-angeles-harbor.

Susan M. Akers,
Assistant Section Chief, Environmental Enforcement Section, Environment and Natural Resources Division.

[FR Doc. 2021-06273 Filed 3-25-21; 8:45 am]

BILLING CODE 4410-15-P